DEPARTMENT OF DEFENSE

Office of the Secretary

[Docket ID DOD-2009-OS-0002]

Privacy Act of 1974; System of Records

AGENCY: Defense Logistics Agency, DoD.

ACTION: Notice to amend a system of records.

SUMMARY: The Defense Logistics Agency is amending a system of records notice in its existing inventory of record systems subject to the Privacy Act of 1974 (5 U.S.C. 552a), as amended.

DATES: This proposed action will be effective without further notice on February 23, 2009 unless comments are received which result in a contrary determination.

ADDRESSES: Send comments to the Privacy Act Officer, Headquarters, Defense Logistics Agency, Attn: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: January 13, 2009.
Morgan E. Frazier,
Alternate OSD Federal Register Liaison Officer, Department of Defense.

350.05

System name:

Official Personnel Files for Non-Appropriated Fund Employees (February 21, 2002, 67 FR 8012).

Changes:

* * * * *

Notification procedure:

Delete entry and replace with “Individuals seeking to determine whether information about themselves is contained in this system of records should address written inquiries to the Privacy Act Office, Headquarters, Defense Logistics Agency, Attn: DGA, 8725 John J. Kingman Road, Suite 1644, Fort Belvoir, VA 22060-6221.

Inquiry should contain subject individual's full name, Social Security Number and location of organization and physical location where employed.”

Record access procedures:

Delete entry and replace with “Individuals seeking access to information about themselves contained in this system of records should address written inquiries to the Privacy Act Office, Headquarters, Defense Logistics Agency, Attn: DGA, 8725 John J. Kingman Road, Suite 1644, Fort Belvoir, VA 22060-6221.

Inquiry should contain subject individual's full name, Social Security Number and location of organization and physical location where employed.”

Contesting record procedures:

Delete entry and replace with “The DLA rules for accessing records, for contesting contents, and appealing initial agency determinations are contained in 32 CFR part 323, or may be obtained from the Privacy Act Office, Headquarters, Defense Logistics Agency, Attn: DGA, 8725 John J. Kingman Road, Suite 1644, Fort Belvoir, VA 22060-6221.”

* * * * *

S400.05

System name:

Official Personnel Files for Non-Appropriated Fund Employees.

System location:

Non-Appropriated Fund Personnel Office, Headquarters, Defense Logistics Agency, Attn: DES-Q, 8725 John J. Kingman Road, Suite 2533, Fort Belvoir, VA 22060-6221.

NAF Personnel Offices of the following Defense Logistics Agency Field Activities:

a. Defense Distribution Depot Susquehanna, Attn: DDSP-HM, 2001 Mission Drive, Suite 1, New Cumberland, PA 17070-5002;

b. Defense Supply Center Richmond, Attn: DSCR-H, 8000 Jefferson Davis Highway, Richmond, VA 23297-5131;

c. Defense Supply Center Columbus, Attn: DSCC-WLQ, 3990 East Broad Street, Columbus, OH 43216-5000;

d. Defense Logistics Information Service, Attn: DLIS-RB, 74 N. Washington Avenue, Battle Creek, MI 49017-3084; and

e. Defense Distribution Depot San Joaquin, Attn: DDJC-X, 25600 S. Chrisman Road, Building 100, Room 28, Tracy, CA 95376.

Note: Some of the information contained in this system may be duplicated for maintenance at a location closer to the employee's work site (e.g., in an administrative office or supervisor's work folder) and still be covered by this system of records notice.

Categories of individuals covered by the system:

Individuals who have accepted employment as a DLA Non-Appropriated Fund employee.

Categories of records in the system:

The system constitutes a history of employment with DLA and contains name, physical and electronic addresses, telephone numbers, date and place of birth, citizenship, Social Security Number, prior employment or work history, and employment application forms. In addition, the system includes grade; series; duties; duty location; promotions; work schedule; health and life insurance election documents; pay data; direct deposit forms; savings bond authorizations; state and local taxation forms; emergency notification data; performance objectives and evaluations; awards; notices of disciplinary or adverse action and employee response; training records; certification and licensing records; medical and fitness for duty evaluations; secondary employment documents; the fact of and level of security clearance; social security or other retirement benefit data; and similar employment-related material.

Authority for maintenance of the system:

5 U.S.C. 301, Departmental Regulations; 10 U.S.C. 136, Under Secretary of Defense for Personnel and Readiness; 10 U.S.C. 1143d, Employment assistance; 10 U.S.C. 1588, Voluntary services; 10 U.S.C. 1784, Employment opportunities; 42 U.S.C. 300e-9, Employees Health Benefit Plans; 42 U.S.C. Chapter 7, Subchapter II, Social Security Benefits and E.O. 9397 (SSN).

Purpose(s):

The files provide the basic source of factual data about a person's Non-Appropriated Fund employment. The information is collected and maintained to provide personnel services to the employee and to provide personnel and supervisory officials with information on which to base decisions on employee rights, benefits, eligibility and status.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

The information may be disclosed to government and private vendor training facilities and educational institutions in support of training requirements; to health and life insurance carriers for enrollment or claim processing purposes; and to Federal, state, local, and professional licensing boards concerning the issuance, retention, or revocation of licenses or certificates.

To Federal, State, or local agencies that verify eligibility for, administer, audit, or adjudicate claims pertaining to retirement, insurance, unemployment, health benefits, occupational injury, and similar entitlement programs.

To public and private organizations for nominating, considering, or selecting employees for awards and honors or to publicize employee recognition programs.

To the Equal Employment Opportunity Commission (EEOC) for investigating alleged or possible discrimination practices or to fulfill other functions vested in the EEOC.

To the Federal Labor Relations Authority (FLRA) for investigating and resolving allegations of unfair labor practices, or to fulfill other functions vested in the FLRA.

To public health agencies in cases where employees have contracted or been exposed to a health hazard while employed with DLA.

To the Department of the Treasury to process savings bond authorization forms.

To the Social Security Administration and pension fund administration entities for retirement and pension benefit administration, oversight, and audit purposes.

The DOD “Blanket Routine Uses” also apply to this system of records.

Policies and practices for storing, retrieving, accessing, retaining, and disposing of records in the system:

Storage:

Records may be stored on paper and on electronic storage media.

Retrievability:

Records are retrieved by subject individual's name or Social Security Number.

Safeguards:

Records are maintained in areas accessible only to DLA personnel who must have access to perform their duties. The computer files are password protected with access restricted to authorized users. Records are secured in locked or guarded buildings, locked offices, locked cabinets or powered down computer terminals during non-duty hours. Output and storage media products are labeled “For Official Use Only” and handled in accordance with DLA regulations for the safeguarding of such information. Data relayed through the Internet is encrypted during transmission by means that comply with DOD polices and technical specifications for communications, operations, and web security.

Retention and disposal:

Folders are maintained for the duration of the employee's employment. They are retired to the National Personnel Records Center (Civilian Personnel Records), 111 Winnebago Street, St. Louis, MO 63118, 30 days after separation except that files on off-duty military personnel are destroyed 2 years after termination of employment and files on non-U.S. citizens residing outside of CONUS, Alaska, Hawaii, but working within CONUS, Alaska, and Hawaii are destroyed 3 years after separation.

Some records within the file are retained at the agency for various lengths of time in accordance with the National Archives and Records Administration records schedules.

a. Documents relating to the administration of group life, health, and accident insurance programs, and retirement plans for NAF employees. Included are requests for group insurance, agreements, waivers, requests for discontinuance, applications for insurance, beneficiary designations, notices of employment termination, statements of contributions, similar documents, and related papers are destroyed after termination of involvement by the NAF activity.

b. Documents reflecting basic data on individual employees such as veteran preference, service computation date, performance ratings, positions held, and similar information are destroyed 15 years after transfer or separation of employee.

c. Documents related to submitting, evaluating, and approving or disapproving suggestions, service awards, and commendations of non-appropriated fund employees are destroyed 5 years after final action.

d. Documents used to record supervisory counseling interviews and separation interviews are destroyed 6 months after transfer or separation of employee.

e. Training documents are destroyed after 5 years.

System manager(s) and address:

Chief, NAF Personnel and Policy Office, Headquarters, Defense Logistics Agency, Attn: DES-Q, 8725 John J. Kingman Road, Suite 2533, Fort Belvoir, VA 22060-6221.

Notification procedure:

Individuals seeking to determine whether information about themselves is contained in this system of records should address written inquiries to the Privacy Act Office, Headquarters, Defense Logistics Agency, Attn: DGA, 8725 John J. Kingman Road, Suite 1644, Fort Belvoir, VA 22060-6221.

Inquiry should contain subject individual's full name, Social Security Number and location of organization and physical location where employed.

Record access procedures:

Individuals seeking access to information about themselves contained in this system of records should address written inquiries to the Privacy Act Office, Headquarters, Defense Logistics Agency, Attn: DGA, 8725 John J. Kingman Road, Suite 1644, Fort Belvoir, VA 22060-6221.

Inquiry should contain subject individual's full name, Social Security Number and location of organization and physical location where employed.

Contesting record procedures:

The DLA rules for accessing records, for contesting contents, and appealing initial agency determinations are contained in 32 CFR part 323, or may be obtained from the Privacy Act Office, Headquarters, Defense Logistics Agency, Attn: DGA, 8725 John J. Kingman Road, Suite 1644, Fort Belvoir, VA 22060-6221.

Record source categories:

Information contained in the folder is obtained from the record subject, the employee's previous employer, educational institutions, trade associations, references and others who would have knowledge of the employee's skills or employment characteristics and papers originating with the activity during the employee's work history.

Exemptions claimed for the system:

None.

[FR Doc. E9-1233 Filed 1-21-09; 8:45 am]

BILLING CODE 5001-06-P